DEPARTMENT OF STATE

[Public Notice 3460]

Bureau of Educational and Cultural Affairs; Fulbright Student Program

NOTICE: Conference for bidders.

SUMMARY: The State Department's Bureau of Educational and Cultural Affairs announces a Conference for Bidders, inviting for discussion organizations that are interested in submitting a Proposal to administer the Fulbright Student Program. The conference will take place November 9, 2000 at 2 p.m. at the following location: SA-44, Room 800-A, 301 4th Street, SW., Washington, DC 20547.

FOR FURTHER INFORMATION CONTACT: Interested organizations should contact Rosalind Swenson at (202) 619-5384 prior to November 9, 2000 to schedule their attendance at the Conference.

The Fulbright Student Program was announced in the Federal Register, Volume 65, Number 206, on October 24, 2000.

Dated: October 25, 2000.
William B. Bader,
Assistant Secretary for Educational and Cultural Affairs, U.S. Department of State.

[FR Doc. 00-28184 Filed 11-1-00; 8:45 am]

BILLING CODE 4710-05-P